DEPARTMENT OF HOUSING AND URBAN DEVELOPMENT

24 CFR Parts 982 and 983

[Docket No. FR-5976-N-03]

Housing Opportunity Through Modernization Act of 2016; Implementation of Various Section 8 Voucher Provisions

Correction

Rule document 17-00911 was inadvertently published in the Proposed Rules section of the issue of Wednesday, January 18, 2017, beginning on page 5458. It should have appeared in the Rules section.

[FR Doc. C1-2017-00911 Filed 7-13-17; 8:45 am]

BILLING CODE 1505-01-D